DEPARTMENT OF HOUSING AND URBAN DEVELOPMENT

[Docket No. FR-7071-N-24]

60-Day Notice of Proposed Information Collection: Project Approval for Single-Family Condominiums, OMB Control No.: 2502-0610

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: December 11, 2023.

ADDRESSES: Interested persons are invited to submit comments regarding this proposal. Written comments and recommendations for the proposed information collection can be submitted within 60 days of publication of this notice to www.reginfo.gov/public/do/PRAMain. Find this particular information collection by selecting “Currently under 60-day Review—Open for Public Comments” or by using the search function. Interested persons are also invited to submit comments regarding this proposal by name and/or OMB Control Number and can be sent to: Colette Pollard, Reports Management Officer, REE, Department of Housing and Urban Development, 451 7th Street SW, Room 8210, Washington, DC 20410-5000 or email at PaperworkReductionActOffice@hud.gov.

FOR FURTHER INFORMATION CONTACT: Colette Pollard, Reports Management Officer, REE, Department of Housing and Urban Development, 451 7th Street SW, Washington, DC 20410; email; Colette.Pollard@hud.gov, telephone 202-402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

A. Overview of Information Collection

Title of Information Collection: Project Approval for Single-Family Condominiums.

OMB Approval Number: 2502-0610.

Type of Request: Revision of currently approved collection.

Form Number: HUD-9991A-LL, FHA Condominium Loan Level Certification; HUD-9991B-SUA, FHA Condominium Single-Unit Approval Questionnaire & Certification; HUD-9992, FHA Condominium Project Approval Questionnaire; HUD-92544, Warranty of Completion of Construction; HUD-92541, Builder's Certification of Plans, Specifications, and Site; HUD-96029, Condominium Rider.

Description of the need for the information and proposed use: This collection package seeks to renew and revise collection forms, HUD-9992 FHA Condominium Project Approval Questionnaire, to process condominium project approval applications, HUD-9991A-LL, FHA Condominium Loan Level Certification to process loan level approvals and the HUD-9991B-SUA, FHA Single-Unit Approval Questionnaire & Certification to process single-unit approvals. These forms are needed to determine if a condominium project is eligible for FHA project approval and if a unit in an approved or unapproved condominium project is eligible for FHA-insured financing. The existing HUD-9992, FHA Condominium Project Approval Questionnaire and the HUD-9991, FHA Condominium Loan Level/Single-Unit Approval Questionnaire have been revised to make the questionnaires more adaptable to future policy changes and to provide clarity without increasing the public burden. HUD is seeking feedback for sections of the HUD-9992 pertaining to Financial Stability and Controls that relate to Special Assessments, Deferred Maintenance, and independent sustainability of a completed phase under Legal Phasing. The HUD-92544, Warranty of Completion of Construction and HUD-96029, Condominium Rider were updated to comply with the Privacy Act Notice requirements.

Respondents: Business or other for-profit.

Estimated Number of Respondents: 122,155.

Estimated Number of Responses: 122,155.

Frequency of Response: One-time for each condominium project approval or recertification, and one-time for each loan level approval and Single-Unit Approval.

Average Hours per Response: .49 hours (varies by form and approval type: project, loan level approval and Single-Unit approval).

Total Estimated Burdens:

Information collection | Number of respondents | Frequency of response | Responses per annum | Burden hour per response | Annual burden hours | Hourly cost per response | Annual cost
OMB 2502-0610 | 122,155 | Once per loan | 122,155 | 7.15 | 59,985 | 59.77 | 3,585,223.95

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. chapter 35.

Jeffrey D. Little,
General Deputy Assistant Secretary for Housing.

[FR Doc. 2023-22415 Filed 10-6-23; 8:45 am]

BILLING CODE 4210-67-P